FARM CREDIT ADMINISTRATION

Privacy Act System Notices

AGENCY: Farm Credit Administration.

ACTION: Notice of amendment of a system of records maintained on individuals; request for comments.

SUMMARY: Under the Privacy Act of 1974, as amended (5 U.S.C. 552a), the Farm Credit Administration (FCA) is amending Privacy Act systems of records FCA-5, Assignments and Correspondence Tracking System and renaming it FCA-5, Assignments and Communication Tracking System. The amended system of records will help us collect, maintain, use, and disclose information about individuals.

We filed an Altered Systems Report with Congress and the Office of Management and Budget (OMB) on June 29, 2000.

DATES: You should forward written comments by August 4, 2000. We will adopt this notice without further publication on August 28, 2000, unless we change it to incorporate public comments and publish another notice.

ADDRESSES: You may mail written comments (in triplicate) to Debra Buccolo, Privacy Act Officer, Farm Credit Administration, 1501 Farm Credit Drive, McLean, Virginia 22102-5090. You may send comments by E-mail to BuccoloD@fca.gov. Copies of all comments we receive will be available for review by interested parties at FCA headquarters.

FOR FURTHER INFORMATION CONTACT:

Debra Buccolo, Privacy Act Officer, Farm Credit Administration, 1501 Farm Credit Drive, McLean, Virginia 22102-5090, (703) 883-4022, TDD (703) 883-4444

or

Jane M. Virga, Senior Attorney, Office of General Counsel, Farm Credit Administration, 1501 Farm Credit Drive, McLean, Virginia, 22102-5090, (703) 883-4071, TDD (703) 883-4444.

SUPPLEMENTARY INFORMATION: We are amending FCA-5, Assignments and Correspondence Tracking System and renaming it FCA-5, Assignments and Communication Tracking System. The amendments will allow FCA to track written and oral communications between FCA staff and external parties.

As required by 5 U.S.C. 552a(r) of the Privacy Act, we have notified OMB, the Committee on Government Reform of the House of Representatives, and the Committee on Governmental Affairs of the Senate of the amended system of records. The notice is published in its entirety below.

FCA-5

System Name:

Assignments and Communication Tracking System—FCA.

System Classification:

None.

System Location:

Farm Credit Administration, 1501 Farm Credit Drive, McLean, VA 22102-5090.

Categories of Individuals Covered by the System:

Current or former FCA employees, and external parties.

Categories of Records in the System:

This system contains incoming letters, outgoing correspondence, memoranda, documents pertaining to FCA's operations, and communication logs.

Authority for Maintenance of the System:

12 U.S.C. 2243, 2252.

PURPOSE(S):

We use information in this system of records for reference, to track employee assignments, and to track oral and written communications between FCA staff and external parties. This information aids Agency management in its deliberations.

Routine Uses of Records Maintained in the System, Including Categories of users and the Purposes of Such Uses:

See the “General Statement of Routine Uses.”

Disclosure to Consumer Reporting Agencies:

None.

Policies and Practices for Storing, Retrieving, Accessing, Retaining, and Disposing of Records in the System:

Storage:

We maintain incoming letters or inquiries and their responses in file folders, on computer disks, and on computers. We store communication logs on a computer.

Retrievability:

We file incoming letters or inquiries and their responses by Farm Credit District or alphabetically by requester's name. The automated communication log can sort and retrieve entries by Farm Credit District, subject, and name of FCA staff and external party.

Safeguards:

We maintain file folders in a cabinet in an area that is secured after business hours. Only authorized personnel have access to the computers, computer disks, and the automated communication log.

Retention and Disposal:

We destroy data in the automated system as well as the file folders after 6 years.

System Manager(s) and Address:

Chief Information Officer, Farm Credit Administration, 1501 Farm Credit Drive, McLean, VA 22102-5090.

Notification Procedure:

Direct all inquiries about this system of records to: Privacy Act Officer, Farm Credit Administration, 1501 Farm Credit Drive, McLean, VA 22102-5090.

Record Access Procedures:

To obtain a record, contact: Privacy Act Officer, Farm Credit Administration, 1501 Farm Credit Drive, McLean, VA 22102-5090, as provided in 12 CFR Part 603.

Contesting Record Procedures:

Direct requests for amendments of a record to: Privacy Act Officer, Farm Credit Administration, 1501 Farm Credit Drive, McLean, VA 22102-5090, as provided in 12 CFR Part 603.

Record Source Categories:

Persons making general inquiries or requests for information, persons communicating with the Agency, FCA staff, Farm Credit System institutions, and other external parties.

Exemptions Claimed for the System:

None.

Dated: June 29, 2000.
Jeanette Brinkley,
Acting Secretary, Farm Credit Administration Board.

[FR Doc. 00-16908 Filed 7-3-00; 8:45 am]

BILLING CODE 6705-01-P